COMMISSION ON CIVIL RIGHTS

Notice of Public Briefings of the West Virginia Advisory Committee to the U.S. Commission on Civil Rights

AGENCY: Commission on Civil Rights.

ACTION: Notice of public briefings.

SUMMARY: Notice is hereby given, pursuant to the provisions of the rules and regulations of the U.S. Commission on Civil Rights (Commission) and the Federal Advisory Committee Act, that the West Virginia Advisory Committee (Committee) to the U.S. Commission on Civil Rights will hold three public panel briefings via Zoom. The purpose of each panel briefing is to hear testimony on the civil rights impacts that exclusionary and punitive disciplinary policies, practices and procedures have on students of color, students with disabilities and LGBTQ+ students in in West Virginia public schools.

DATES:

Panel Briefing II: Thursday, May 4, 2023 from 2:00 p.m.-4:00 p.m. ET

Panel Briefing III: Friday, May 5, 2023, from 10:00 a.m.-12:00 p.m. ET

Panel Briefing IV: Monday, May 8, 2023, from 10:00 a.m.-12:00 p.m. ET

ADDRESSES: The meetings will be held via Zoom.

Panel Briefing II:

—Registration Link (Audio/Visual): https://www.zoomgov.com/j/1617821168

—Join by Phone (Audio Only): 1-833-435-1820 USA Toll-Free; Meeting ID: 161 782 1168

Panel Briefing III:

—Registration Link (Audio/Visual): https://www.zoomgov.com/j/1600158807

—Join by Phone (Audio Only): 1-833-435-1820 USA Toll-Free; Meeting ID: 160 015 8807

Panel Briefing IV:

—Registration Link (Audio/Visual): https://www.zoomgov.com/j/1605207064

—Join by Phone (Audio Only): 1-833-435-1820 USA Toll-Free; Meeting ID: 160 520 7064

FOR FURTHER INFORMATION CONTACT: Ivy Davis, Designated Federal Officer, at ero@usccr.gov or 1-202-539-8468.

SUPPLEMENTARY INFORMATION: These Committee meetings are available to the public through the registration link above. Any interested member of the public may attend these meetings. Immediately after each panel briefing concludes the Committee Chair will recognize members of the public to make a brief statement to the Committee on the panel topic—not to exceed five minutes—as time allows. Per the Federal Advisory Committee Act, public minutes of these meetings will include a list of persons present at the meetings. If joining via phone, callers can expect to incur regular charges for calls they initiate over wireless lines, according to their wireless plan. The Commission will not refund any incurred charges. Callers will incur no charge for calls they initiate over land-line connections to the toll-free telephone number. Closed captioning will be available for individuals who are deaf, hard of hearing, or who have certain cognitive or learning impairments. To request additional accommodations, please email svillanueva@usccr.gov at least 10 business days prior to the meeting.

Members of the public are entitled to submit written comments; the comments must be emailed within 30 days following the scheduled meetings. Written comments may be emailed to attention Ivy Davis at ero@usccr.gov. at svillanueva@usccr.gov. Persons who desire additional information may call Sarah Villanueva at 1-202-539-8468.

Records generated from these meetings may be inspected and reproduced at the Regional Programs Coordination Unit Office, as they become available, both before and after the meeting. Records of the meetings will be available via www.facadatabase.gov under the Commission on Civil Rights, West Virginia Advisory Committee link. Persons interested in the work of this Committee are directed to the Commission's website, http://www.usccr.gov, or may contact the Regional Programs Coordination Unit at svillanueva@uscccr.gov.

Agenda

I. Welcome and Roll Call

II. Opening Remarks

III. Panelist Testimony

IV. Committee Q&A

V. Public Comment

VI. Closing Remarks

VII. Adjourn

Exceptional Circumstance: Pursuant to 41 CFR 102-3.150, the notice for this meeting is given fewer than 15 calendar days prior to the meeting as the Committee's project needs to reach completion before their term ends.

Dated: May 5, 2023.
David Mussatt,
Supervisory Chief, Regional Programs Unit.

[FR Doc. 2023-09926 Filed 5-9-23; 8:45 am]

BILLING CODE P